DEPARTMENT OF THE TREASURY

Office of Foreign Assets Control

31 CFR Part 515

Cuban Assets Control Regulations

AGENCY: Office of Foreign Assets Control, Treasury.

ACTION: Final rule.

SUMMARY: The Department of the Treasury's Office of Foreign Assets Control (“OFAC”) is amending the Cuban Assets Control Regulations to continue efforts to reach out to the Cuban people in support of their desire to freely determine their country's future. These amendments implement policy changes announced by the President on January 14, 2011, designed to increase people-to-people contact, support civil society in Cuba, enhance the free flow of information to, from, and among the Cuban people, and help promote their independence from Cuban authorities. To implement these policy changes, OFAC is taking steps that build upon the President's April 2009 initiative to, among other things, allow for greater licensing of travel to Cuba for educational, cultural, religious, and journalistic activities and expand licensing of remittances to Cuba. These amendments also modify regulations regarding authorization of transactions with Cuban national individuals who have taken up permanent residence outside of Cuba, as well as implement certain technical and conforming changes.

DATES: Effective Date: January 28, 2011.

FOR FURTHER INFORMATION CONTACT: Assistant Director for Compliance, Outreach & Implementation, tel.: 202-622-2490, Assistant Director for Licensing, tel.: 202-622-2480; Assistant Director for Policy, tel.: 202-622-4855, or Chief Counsel (Foreign Assets Control), tel.: 202-622-2410 (not toll free numbers).

SUPPLEMENTARY INFORMATION:

Electronic and Facsimile Availability

This document and additional information concerning OFAC are available from OFAC's Web site (http://www.treasury.gov/ofac). Certain general information pertaining to OFAC's sanctions programs also is available via facsimile through a 24-hour fax-on-demand service, tel.: 202/622-0077.

Background

The U.S. Government issued the Cuban Assets Control Regulations, 31 CFR part 515 (the “Regulations”), on July 8, 1963, under the Trading With the Enemy Act (50 U.S.C. App. 5 et seq.). On September 3, 2009, OFAC amended the Regulations to implement measures announced by the President in April 2009 to promote democracy and human rights in Cuba by easing travel restrictions to facilitate greater contact between separated family members in the United States and Cuba and by increasing the flow of remittances and information to the Cuban people.

OFAC is now amending the Regulations to implement certain policy changes announced by the President on January 14, 2011, to continue efforts to reach out to the Cuban people in support of their desire to freely determine their country's future. These amendments allow for greater licensing of travel to Cuba for educational, cultural, religious, and journalistic activities and expand licensing of remittances to Cuba. These amendments also modify regulations regarding authorization of transactions with Cuban national individuals who have taken up permanent residence outside of Cuba, as well as implement certain technical and conforming changes.

Travel to Cuba for educational activities. Section 515.565 is amended to implement policy changes for travel-related transactions incident to educational activities. A new general license authorizing accredited U.S. graduate and undergraduate degree-granting academic institutions to engage in Cuba travel-related transactions incident to certain educational activities replaces the former statement of specific licensing policy in paragraph (a) of section 515.565. Specific licenses issued pursuant to former paragraph (a) were limited to one year in duration and covered only “full-time permanent” employees of, and students enrolled “at,” a particular licensed institution. The new general license authorizes transactions incident to the educational activities described in paragraph (a) of section 515.565 by all members of the faculty and staff (including but not limited to adjunct faculty and part-time staff) of a sponsoring U.S. academic institution. The new general license also authorizes students to participate in academic activities in Cuba through any sponsoring U.S. academic institution, not only through the accredited U.S. academic institution at which the student is pursuing a degree. The requirement that participation in a structured educational program in Cuba or participation in a formal course of study at a Cuban academic institution be no shorter than 10 weeks in duration is removed, and the new general license instead requires that the study in Cuba be accepted for credit toward the student's degree.

Revised paragraph (b) of section 515.565 sets forth specific licensing policies. Paragraph (b)(1) provides that specific licenses may be issued to authorize travel-related transactions incident to an individual's educational activities of certain types described in but that are not authorized by the new general license contained in revised paragraph (a). New paragraph (b)(3) allows accredited U.S. graduate or undergraduate degree-granting academic institutions, by specific license, to sponsor or co-sponsor academic seminars, conferences, and workshops related to Cuba or global issues involving Cuba, and it allows faculty, staff, and students of such institutions to attend those events. A new note to section 515.565 explains that U.S. academic institutions may open accounts at Cuban financial institutions for the purpose of accessing funds in Cuba for transactions authorized pursuant to that section. Nothing in these amendments authorizes U.S. financial institutions to open or use direct correspondent accounts of their own at Cuban financial institutions.

People-to-people exchanges. OFAC also is adding new paragraph (b)(2) to section 515.565 to restore a statement of specific licensing policy for “people-to-people” exchanges. This travel category provides for specific licenses authorizing educational exchanges not involving academic study pursuant to a degree program when those exchanges take place under the auspices of an organization that sponsors and organizes such programs to promote people-to-people contact.

Travel to Cuba for religious activities. Section 515.566 is amended to implement policy changes for travel-related transactions incident to religious activities. A new general license authorizing religious organizations located in the United States to engage in Cuba travel-related transactions incident to religious activities replaces the former statement of specific licensing policy in paragraph (a) of section 515.566. Revised paragraph (b) provides that specific licenses may be issued to authorize travel-related transactions incident to religious activities that are not authorized by the new general license contained in revised paragraph (a). A new note to section 515.566 explains that religious organizations may open accounts at Cuban financial institutions for the purpose of accessing funds in Cuba for transactions authorized pursuant to that section. Nothing in these amendments authorizes U.S. financial institutions to open or use direct correspondent accounts of their own at Cuban financial institutions.

Other travel to Cuba. Section 515.567, including its heading, is revised to restore a statement of specific licensing policy for travel-related transactions incident to participation in clinics or workshops. New paragraph (b)(3) of section 515.567 includes a condition that any clinics or workshops in Cuba must be organized and run, at least in part, by the licensee. Paragraph (b) of section 515.563 is amended to increase the scope of the statement of specific licensing policy for journalistic activities in Cuba to include free-lance journalistic projects other than “articles.”

Remittances. OFAC also is amending section 515.570 to implement several policy changes regarding remittances to Cuba. New paragraph (b) contains a general license authorizing persons subject to U.S. jurisdiction to remit up to $500 per quarter to any Cuban national, except prohibited officials of the Government of Cuba or prohibited members of the Cuban Communist Party, to support the development of private businesses, among other purposes. A second general license has been added in new paragraph (c), authorizing unlimited remittances to religious organizations in Cuba in support of religious activities. Prior to this amendment, remittances to religious organizations in Cuba were authorized by specific license. New paragraph (d) contains a third new general license, authorizing remittances to close relatives who are students in Cuba pursuant to an educational license for the purpose of funding transactions authorized by the license under which the student is traveling. Former paragraphs (b), (c), and (d) have been redesignated as paragraphs (e), (f), and (g), respectively. Newly redesignated paragraph (g)(1) of section 515.570 has been revised to clarify that specific licenses may be issued to authorize remittances to individuals or independent non-governmental entities to support the development of private businesses, including small farms.

Certain transactions with Cuban nationals who have taken up permanent residence outside of Cuba. Section 515.505, including its heading, is revised to add a general license in new paragraph (d) authorizing certain transactions with individual nationals of Cuba who have taken up permanent residence outside of Cuba (former paragraphs (d) and (e) have been redesignated as paragraphs (e) and (f), respectively). Persons subject to U.S. jurisdiction may engage in transactions with such individuals, prospectively, as if they were unblocked Cuban nationals as defined in section 515.307 of this part. All property in which such Cuban nationals have an interest that was blocked pursuant to this part prior to the later of the date on which the individual took up permanent residence outside of Cuba or January 28, 2011, however, remains blocked. To determine whether an individual Cuban national has taken up permanent residence outside of Cuba, persons subject to U.S. jurisdiction are required to collect copies of at least two documents issued to the individual by the government authorities of the new country of permanent residence. An example illustrating the application of this general license is found in new paragraph (f)(4).

Public Participation

Because the amendments of the Regulations involve a foreign affairs function, Executive Order 12866 and the provisions of the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the Regulations are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects in 31 CFR Part 515

Administrative practice and procedure, Banking, Blocking of assets, Cuba, Remittances, Reporting and recordkeeping requirements, Travel restrictions.

For the reasons set forth in the preamble, the Department of the Treasury's Office of Foreign Assets Control amends 31 CFR part 515 as set forth below:

PART 515—CUBAN ASSETS CONTROL REGULATIONS

1. The authority citation for part 515 is revised to read as follows:

Authority: 18 U.S.C. 2332d; 22 U.S.C. 2370(a), 6001-6010, 7201-7211; 31 U.S.C. 321(b); 50 U.S.C. App 1-44; Pub. L. 101-410, 104 Stat. 890 (28 U.S.C. 2461 note); Pub. L. 104-114, 110 Stat. 785 (22 U.S.C. 6021-6091); Pub. L. 105-277, 112 Stat. 2681; Pub. L. 111-8, 123 Stat. 524; Pub. L. 111-117, 123 Stat. 3034; E.O. 9193, 7 FR 5205, 3 CFR, 1938-1943 Comp., p. 1174; E.O. 9989, 13 FR 4891, 3 CFR, 1943-1948 Comp., p. 748; Proc. 3447, 27 FR 1085, 3 CFR, 1959-1963 Comp., p. 157; E.O. 12854, 58 FR 36587, 3 CFR, 1993 Comp., p. 614.

Subpart E—Licenses, Authorizations, and Statements of Licensing Policy

2. Amend § 515.505 by revising the section heading and paragraph (b), by redesignating paragraphs (d) and (e) as paragraphs (e) and (f), respectively, by adding new paragraph (d), and by adding new paragraph (f)(4) to read as follows:

§ 515.505 Certain Cuban nationals unblocked; transactions of certain other Cuban nationals lawfully present in the United States; transactions with Cuban nationals who have taken up permanent residence outside of Cuba.

* * * * *

(b) Specific licenses unblocking certain individuals who have taken up permanent residence outside of Cuba. Individual nationals of Cuba who have taken up permanent residence outside of Cuba may apply to the Office of Foreign Assets Control to be specifically licensed as unblocked nationals. Applications for specific licenses under this paragraph should include copies of at least two documents indicating permanent residence issued by the government authorities of the new country of permanent residence, such as a passport, voter registration card, permanent resident alien card, or national identity card. In cases where two of such documents are not available, other information will be considered, such as evidence that the individual has been resident for the past two years without interruption in a single country outside of Cuba or evidence that the individual does not intend to, or would not be welcome to, return to Cuba.

* * * * *

(d) General license authorizing certain transactions with individuals who have taken up permanent residence outside of Cuba. Persons subject to U.S. jurisdiction are authorized to engage in any transaction with an individual national of Cuba who has taken up permanent residence outside of Cuba as if the individual national of Cuba were an unblocked national, as defined in § 515.307 of this part, except that all property in which the individual national of Cuba has an interest that was blocked pursuant to this part prior to the later of the date on which the individual took up permanent residence outside of Cuba or January 28, 2011 shall remain blocked. In determining whether an individual national of Cuba has taken up permanent residence outside of Cuba, persons subject to U.S. jurisdiction must obtain from the individual copies of at least two documents indicating permanent residence issued by the government authorities of the new country of permanent residence, such as a passport, voter registration card, permanent resident alien card, or national identity card.

* * * * *

(f) * * *

(4) Example 4: An individual national of Cuba who has taken up permanent residence outside of Cuba wishes to open a bank account at a branch of a U.S. bank in Spain and then withdraw a portion of her previously blocked funds held by the same U.S. bank's New York branch. The individual provides the Spanish branch with a copy of her third-country passport and voter registration card demonstrating her permanent residence status in the third country. The Spanish branch may open an account for the individual and provide her with banking services. The New York branch may also handle any transactions related to this new account processed through the United States but may not unblock her funds that had been blocked prior to the later of the date on which the individual took up permanent residence outside of Cuba or January 28, 2011. Those funds remain blocked unless and until the individual is licensed as an unblocked national pursuant to paragraph (a) or (b) of this section or the funds are otherwise unblocked by a separate Office of Foreign Assets Control authorization.

* * * * *

3. Amend § 515.560 by revising paragraphs (a)(5) through (7), (c)(4)(i) and (ii), and (f) and by adding new paragraph (d)(3) to read as follows:

§ 515.560 Travel-related transactions to, from, and within Cuba by persons subject to U.S. jurisdiction.

(a) * * *

(5) Educational activities (general and specific licenses) (see § 515.565);

(6) Religious activities (general and specific licenses) (see § 515.566);

(7) Public performances, clinics, workshops, athletic and other competitions, and exhibitions (specific licenses) (see § 515.567);

* * * * *

(c) * * *

(4) * * *

(i) The total of all remittances authorized by § 515.570(a) through (d) does not exceed $3,000; and

(ii) No emigration remittances authorized by § 515.570(e) are carried to Cuba unless a U.S. immigration visa has been issued for each payee and the licensed traveler can produce the visa recipients' full names, dates of birth, visa numbers, and visa dates of issuance.

* * * * *

(d) * * *

(3) Compensation earned by a Cuban national from a U.S. academic institution up to any amount that can be substantiated through payment receipts from such institution as authorized pursuant to § 515.565(a)(5).

* * * * *

(f) Nothing in this section authorizes transactions in connection with tourist travel to Cuba.

4. Amend § 515.563 by revising paragraph (b) to read as follows:

§ 515.563 Journalistic activities in Cuba.

* * * * *

(b) Specific licenses. (1) Specific licenses may be issued on a case-by-case basis authorizing the travel-related transactions set forth in § 515.560(c) and other transactions that are directly incident to journalistic activities in Cuba for a free-lance journalistic project upon submission of an adequate written application including the following documentation:

(i) A detailed itinerary and a detailed description of the proposed journalistic activities; and

(ii) A resume or similar document showing a record of journalism.

(2) To qualify for a specific license pursuant to this section, the itinerary in Cuba for a free-lance journalistic project must demonstrate that the journalistic activities constitute a full work schedule that could not be accomplished in a shorter period of time.

(3) Specific licenses may be issued pursuant to this section authorizing transactions for multiple trips to Cuba over an extended period of time by applicants demonstrating a significant record of journalism.

5. Revise § 515.565 to read as follows:

§ 515.565 Educational activities.

(a) General license. Accredited U.S. graduate and undergraduate degree-granting academic institutions, including faculty, staff, and students of such institutions, are authorized to engage in the travel-related transactions set forth in § 515.560(c) and such additional transactions that are directly incident to:

(1) Participation in a structured educational program in Cuba as part of a course offered for credit by the sponsoring U.S. academic institution. An individual traveling to engage in such transactions must carry a letter on official letterhead, signed by a designated representative of the sponsoring U.S. academic institution, stating that the Cuba-related travel is part of a structured educational program of the sponsoring U.S. academic institution, and stating that the individual is a member of the faculty or staff of that institution or is a student currently enrolled in a graduate or undergraduate degree program at an accredited U.S. academic institution and that the study in Cuba will be accepted for credit toward that degree;

(2) Noncommercial academic research in Cuba specifically related to Cuba and for the purpose of obtaining a graduate degree. A student traveling to engage in such transactions must carry a letter on official letterhead, signed by a designated representative of the sponsoring U.S. academic institution, stating that the individual is a student currently enrolled in a graduate degree program at an accredited U.S. academic institution, and stating that the research in Cuba will be accepted for credit toward that degree;

(3) Participation in a formal course of study at a Cuban academic institution, provided the formal course of study in Cuba will be accepted for credit toward the student's graduate or undergraduate degree. An individual traveling to engage in such transactions must carry a letter on official letterhead, signed by a designated representative of the sponsoring U.S. academic institution, stating that the individual is a student currently enrolled in a graduate or undergraduate degree program at an accredited U.S. academic institution and that the study in Cuba will be accepted for credit toward that degree;

(4) Teaching at a Cuban academic institution by an individual regularly employed in a teaching capacity at the sponsoring U.S. academic institution, provided the teaching activities are related to an academic program at the Cuban institution and provided that the duration of the teaching will be no shorter than 10 weeks. An individual traveling to engage in such transactions must carry a letter on official letterhead, signed by a designated representative of the sponsoring U.S. academic institution, stating that the individual is regularly employed in a teaching capacity at that institution;

(5) Sponsorship, including the payment of a stipend or salary, of a Cuban scholar to teach or engage in other scholarly activity at the sponsoring U.S. academic institution (in addition to those transactions authorized by the general license contained in § 515.571). Such earnings may be remitted to Cuba as provided in § 515.570 or carried on the person of the Cuban scholar returning to Cuba as provided in § 515.560(d)(3); or

(6) The organization of, and preparation for, activities described in paragraphs (a)(1) through (a)(5) of this section by members of the faculty and staff of the sponsoring U.S. academic institution. An individual engaging in such transactions must carry a letter on official letterhead, signed by a designated representative of the sponsoring U.S. academic institution, stating that the individual is a member of the faculty or staff of that institution, and is traveling to engage in the transactions authorized by this paragraph on behalf of that institution.

Note 1 to paragraph (a): U.S. academic institutions and individual travelers must retain records related to the travel transactions authorized pursuant to this paragraph. See §§ 501.601 and 501.602 of this chapter for applicable recordkeeping and reporting requirements. Exportation of equipment and other items, including the transfer of technology or software to foreign persons (“deemed exportation”), may require separate authorization from the Department of Commerce.

Note 2 to paragraph (a): This paragraph authorizes all members of the faculty and staff (including but not limited to adjunct faculty and part-time staff) of the sponsoring U.S. academic institution to participate in the activities described in this paragraph. A student currently enrolled in a graduate or undergraduate degree program at any accredited U.S. academic institution is authorized pursuant to this paragraph to participate in the academic activities in Cuba described above through any sponsoring U.S. academic institution, not only through the institution at which the student is pursuing a degree.

(b) Specific licenses. Specific licenses may be issued on a case-by-case basis authorizing the travel-related transactions set forth in § 515.560(c) and other transactions directly incident to:

(1) An individual's educational activities of the types described in paragraphs (a)(2) through (a)(4) of this section but not authorized by the general license contained in paragraph (a) of this section;

(2) Educational exchanges not involving academic study pursuant to a degree program when those exchanges take place under the auspices of an organization that sponsors and organizes such programs to promote people-to-people contact; or

(3) Sponsorship or co-sponsorship by an accredited U.S. graduate or undergraduate degree-granting academic institution of academic seminars, conferences, and workshops related to Cuba or global issues involving Cuba and attendance at such events by faculty, staff, and students of the licensed institution.

(c) Transactions related to activities that are primarily tourist-oriented, including self-directed educational activities that are intended only for personal enrichment, will not be authorized pursuant to this section.

(d) For the purposes of this section, the term designated representative of the sponsoring U.S. academic institution means a person designated by the relevant dean or the academic vice-president, provost, or president of the institution as the official responsible for overseeing the institution's Cuba travel program.

Note to § 515.565: Accredited U.S. academic institutions engaging in activities authorized pursuant to this section are permitted to open and maintain accounts at Cuban financial institutions for the purpose of accessing funds in Cuba for transactions authorized pursuant to this section.

6. Revise § 515.566 to read as follows:

§ 515.566 Religious activities in Cuba.

(a) General license. Religious organizations located in the United States, including members and staff of such organizations, are authorized to engage in the travel-related transactions set forth in § 515.560(c) and such additional transactions as are directly incident to religious activities in Cuba under the auspices of the organization. Travel-related transactions pursuant to this authorization must be for the purpose of engaging, while in Cuba, in a full-time program of religious activities. Financial and material donations to Cuba or Cuban nationals are not authorized by this paragraph (a). All individuals who engage in transactions in which Cuba or Cuban nationals have an interest (including travel-related transactions) pursuant to this paragraph (a) must carry with them a letter on official letterhead, signed by a designated representative of the U.S. religious organization, confirming that they are members or staff of the organization and are traveling to Cuba to engage in religious activities under the auspices of the organization.

Note to paragraph (a): U.S. religious organizations and individual travelers must retain records related to the travel transactions authorized pursuant to this paragraph. See §§ 501.601 and 501.602 of this chapter for applicable recordkeeping and reporting requirements. Financial donations require separate authorization under § 515.570. See § 515.533 for an authorization of the exportation of items from the United States to Cuba. Exportation of items to be used in Cuba may require separate licensing by the Department of Commerce.

(b) Specific licenses. Specific licenses may be issued on a case-by-case basis authorizing the travel-related transactions set forth in § 515.560(c) and other transactions that are directly incident to religious activities not authorized by the general license contained in paragraph (a) of this section. The application for the specific license must set forth examples of religious activities to be undertaken in Cuba. Specific licenses may be issued pursuant to this section authorizing transactions for multiple trips over an extended period of time to engage in a full-time program of religious activities in Cuba.

(c) For the purposes of this section, the term designated representative of the U.S. religious organization means a person designated as the official responsible for overseeing the organization's Cuba travel program.

Note to § 515.566: Religious organizations engaging in activities authorized pursuant to this section are permitted to open and maintain accounts at Cuban financial institutions for the purpose of accessing funds in Cuba for transactions authorized pursuant to this section.

7. Amend § 515.567 by revising the section heading and paragraph (b) to read as follows:

§ 515.567 Public performances, clinics, workshops, athletic and other competitions, and exhibitions.

* * * * *

(b) Public performances, clinics, workshops, other athletic or non-athletic competitions, and exhibitions. Specific licenses, including for multiple trips to Cuba over an extended period of time, may be issued on a case-by-case basis authorizing the travel-related transactions set forth in § 515.560(c) and other transactions that are directly incident to participation in a public performance, clinic, workshop, athletic competition not covered by paragraph (a) of this section, non-athletic competition, or exhibition in Cuba by participants in such activities, provided that:

(1) The event is open for attendance, and in relevant situations participation, by the Cuban public;

(2) All U.S. profits from the event after costs are donated to an independent nongovernmental organization in Cuba or a U.S.-based charity, with the objective, to the extent possible, of promoting people-to-people contacts or otherwise benefiting the Cuban people; and

(3) Any clinics or workshops in Cuba must be organized and run, at least in part, by the licensee.

* * * * *

8. Revise § 515.570 to read as follows:

§ 515.570 Remittances.

(a) Family remittances authorized. Persons subject to the jurisdiction of the United States who are 18 years of age or older are authorized to make remittances to nationals of Cuba who are close relatives, as defined in § 515.339 of this part, of the remitter, provided that:

(1) The remittances are not made from a blocked source. Certain remittances from blocked accounts are authorized pursuant to paragraph (f) of this section;

(2) The recipient is not a prohibited official of the Government of Cuba, as defined in § 515.337 of this part, or a prohibited member of the Cuban Communist Party, as defined in § 515.338 of this part; and

(3) The remittances are not made for emigration-related purposes. Remittances for emigration-related purposes are addressed by paragraph (e) of this section.

(b) Periodic $500 remittances authorized. Persons subject to the jurisdiction of the United States are authorized to make remittances to Cuban nationals, including, but not limited to, remittances to support the development of private businesses, provided that:

(1) The remitter's total remittances pursuant to paragraph (b) of this section to any one Cuban national do not exceed $500 in any consecutive three-month period;

(2) The remittances are not made from a blocked source;

(3) The recipient is not a prohibited official of the Government of Cuba, as defined in § 515.337 of this part, or a prohibited member of the Cuban Communist Party, as defined in § 515.338 of this part;

(4) The remittances are not made for emigration-related purposes. Remittances for emigration-related purposes are addressed by paragraph (e) of this section; and

(5) The remitter, if an individual, is 18 years of age or older.

(c) Remittances to religious organizations in Cuba authorized. Persons subject to the jurisdiction of the United States are authorized to make remittances to religious organizations in Cuba in support of religious activities, provided that the remittances are not made from a blocked source and that the remitter, if an individual, is 18 years of age or older.

(d) Remittances to students in Cuba pursuant to an educational license authorized. Persons subject to the jurisdiction of the United States who are 18 years of age or older are authorized to make remittances to close relatives, as defined in § 515.339 of this part, who are students in Cuba pursuant to the general license authorizing certain educational activities in § 515.565(a) of this part or a specific license issued pursuant to § 515.565(b) of this part, provided that the remittances are not made from a blocked source and are for the purpose of funding transactions authorized by the general license in § 515.565(a) of this part or the specific license issued pursuant to § 515.565(b) of this part under which the student is traveling.

(e) Two one-time $1,000 emigration-related remittances authorized. Persons subject to the jurisdiction of the United States are authorized to remit the following amounts:

(1) Up to $1,000 per payee on a one-time basis to Cuban nationals for the purpose of covering the payees' preliminary expenses associated with emigrating from Cuba to the United States. These remittances may be sent before the payees have received valid visas issued by the State Department or other approved U.S. immigration documents, but may not be carried by a licensed traveler to Cuba until the payees have received valid visas issued by the State Department or other approved U.S. immigration documents. See § 515.560(c)(4) of this part for the rules regarding the carrying of authorized remittances to Cuba. These remittances may not be made from a blocked source unless authorized pursuant to paragraph (f) of this section.

(2) Up to an additional $1,000 per payee on a one-time basis to Cuban nationals for the purpose of enabling the payees to emigrate from Cuba to the United States, including for the purchase of airline tickets and payment of exit or third-country visa fees or other travel-related fees. These remittances may be sent only once the payees have received valid visas issued by the State Department or other approved U.S. immigration documents. A remitter must be able to provide the visa recipients' full names, dates of birth, visa numbers, and visa dates of issuance. See § 515.560(c)(4) of this part for the rules regarding the carrying of authorized remittances to Cuba. These remittances may not be made from a blocked source unless authorized pursuant to paragraph (f) of this section.

(f) Certain remittances from blocked sources authorized. Provided the recipient is not a prohibited official of the Government of Cuba, as defined in § 515.337 of this part, or a prohibited member of the Cuban Communist Party, as defined in § 515.338 of this part, certain remittances from blocked sources are authorized as follows:

(1) Funds deposited in a blocked account in a banking institution in the United States held in the name of, or in which the beneficial interest is held by, a national of Cuba as a result of a valid testamentary disposition, intestate succession, or payment from a life insurance policy or annuity contract triggered by the death of the policy or contract holder may be remitted:

(i) To that national of Cuba, provided that s/he is a close relative, as defined in § 515.339 of this part, of the decedent;

(ii) To that national of Cuba as emigration-related remittances in the amounts and consistent with the criteria set forth in paragraph (e) of this section.

(2) Up to $300 in any consecutive three-month period may be remitted from any blocked account in a banking institution in the United States to a Cuban national in a third country who is an individual in whose name, or for whose beneficial interest, the account is held.

(g) Specific licenses. Specific licenses may be issued on a case-by-case basis authorizing the following:

(1) Remittances by persons subject to U.S. jurisdiction to independent non-governmental entities in Cuba, including but not limited to pro-democracy groups and civil society groups, and to members of such groups or organizations, or to individuals or independent non-governmental entities to support the development of private businesses, including small farms;

(2) Remittances from a blocked account to a Cuban national in excess of the amount specified in paragraph (f)(2) of this section; or

(3) Remittances by persons subject to U.S. jurisdiction to a person in Cuba, directly or indirectly, for transactions to facilitate non-immigrant travel by an individual in Cuba to the United States under circumstances where humanitarian need is demonstrated, including but not limited to illness or other medical emergency.

Note to § 515.570: For the rules relating to the carrying of remittances to Cuba, see § 515.560(c)(4) of this part. Persons subject to U.S. jurisdiction are prohibited from engaging in the collection or forwarding of remittances to Cuba unless authorized pursuant to § 515.572. For a list of authorized U.S. remittance service providers other than depository institutions, see the “List of Authorized Providers of Air, Travel and Remittance Forwarding Services to Cuba” available from OFAC's Web site (http://www.treasury.gov/ofac).

9. Amend § 515.571 by revising paragraph (a)(5)(i) and the note to § 515.571 to read as follows:

§ 515.571 Certain transactions incident to travel to, from, and within the United States by Cuban nationals.

(a) * * *

(5) * * *

(i) This paragraph (a)(5) does not authorize receipt of compensation in excess of amounts covering living expenses and the acquisition of goods for personal consumption. See § 515.565(a)(5) of this part for an authorization of payments to certain Cuban scholars of stipends or salaries that exceed this limit.

* * * * *

Note to § 515.571: For the authorization of certain transactions by Cuban nationals who become U.S. citizens, apply for or receive U.S. permanent resident alien status, or are lawfully present in the United States in a non-visitor status, see § 515.505 of this part.

10. Amend § 515.577 by revising the paragraph (a) introductory text to read as follows:

§ 515.577 Authorized transactions necessary and ordinarily incident to publishing.

(a) To the extent that such activities are not exempt from this part, and subject to the restrictions set forth in paragraphs (b) through (d) of this section, persons subject to the jurisdiction of the United States are authorized to engage in all transactions necessary and ordinarily incident to the publishing and marketing of manuscripts, books, journals, and newspapers in paper or electronic format (collectively, “written publications”). This section does not apply if the parties to the transactions described in this paragraph include the Government of Cuba. For the purposes of this section, the term “Government of Cuba” includes the state and the Government of Cuba, as well as any political subdivision, agency, or instrumentality thereof, including the Central Bank of Cuba; prohibited officials of the Government of Cuba, as defined in § 515.337 of this part; prohibited members of the Cuban Communist Party, as defined in § 515.338 of this part; employees of the Ministry of Justice; and any person acting or purporting to act directly or indirectly on behalf of any of the foregoing with respect to the transactions described in this paragraph. For the purposes of this section, the term “Government of Cuba” does not include any academic and research institutions and their personnel. Pursuant to this section, the following activities are authorized, provided that persons subject to the jurisdiction of the United States ensure that they are not engaging, without separate authorization, in the activities identified in paragraphs (b) through (d) of this section:

* * * * *

Dated: January 25, 2011.
Adam J. Szubin,
Director, Office of Foreign Assets Control.

[FR Doc. 2011-1969 Filed 1-27-11; 8:45 am]

BILLING CODE 4810-AL-P